ENVIRONMENTAL PROTECTION AGENCY

40 CFR Part 180

[OPP-301112; FRL-6776-4]

RIN 2070-AB78

Diflubenzuron; Pesticide Tolerance Technical Correction

AGENCY: Environmental Protection Agency (EPA).

ACTION: Final rule, technical correction.

SUMMARY: EPA is issuing this final rule to make corrections to the requirements for diflubenzuron tolerance residues that currently appear in the Code of Federal Regulations (CFR). This action is being taken to correct unintended changes erroneously made by certain documents previously published in the Federal Register.

DATES: This technical correction is effective on March 23, 2001.

FOR FURTHER INFORMATION CONTACT: Rita Kumar, Registration Division (7505C), Office of Pesticide Programs, Environmental Protection Agency, 1200 Pennsylvania Ave., NW., Washington, DC 20460; telephone number: (703) 308-8291; fax number: (703) 305-6596; e-mail address: kumar.rita@epa.gov.

SUPPLEMENTARY INFORMATION:

I. General Information

A. Does this Action Apply to Me?

You may be potentially affected by this action if you are an agricultural producer, food manufacturer, or pesticide manufacturer. Potentially affected categories and entities may include, but are not limited to:

Categories | NAICS codes | Examples of potentially affected entities
Industry | 111 | Crop production
| 112 | Animal production
| 311 | Food manufacturing
| 32532 | Pesticide manufacturing

This listing is not intended to be exhaustive, but rather provides a guide for readers regarding entities likely to be affected by this action. Other types of entities not listed in this table could also be affected. The North American Industrial Classification System (NAICS) codes are provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. A frequently updated electronic version of 40 CFR part 180 is available at http://www.access.gpo.gov/nara/cfr/cfrhtml_00/Title_40/40cfr180_00.html, a beta site currently under development.

2. In person. The Agency has established an official record for this action under docket control number OPP-301112. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

A. What Does this Technical Correction Do?

EPA published in the Federal Register of September 29, 1999 (64 FR 52450) (FRL-6382-1), a final rule establishing a tolerance in § 180.377 for diflubenzuron on pears at 0.5 ppm. The expiration date was listed in the document as 3/31/01, but was incorrectly carried as 3/31/00 in the regulatory text table at the end of the document.

In the Federal Register of May 24, 2000 (65 FR 33691) (FRL-6043-1), a final rule was published revising § 180.377. The May 2000 revision was based upon text taken from the 1998 version of the CFR instead of the 1999 version of the CFR. The text listing the time-limited tolerance for pears was incorrectly removed and paragraph (b) was reserved. Also, by using text from the 1998 version of the CFR, the tolerance status and residue levels for rice, grain and rice, straw appearing in paragraph (a)(2) were incorrectly revised to be a temporary tolerance in or on rice grain at 0.01 ppm.

EPA issued a final rule to correct the expiration date for pears in the Federal Register of September 27, 2000 (65 FR 57956) (FRL-6741-3). However, it was brought to EPA's attention that the document published on May 24, 2000, incorrectly removed and reserved paragraph (b).

This document withdraws the correction published on September 27, 2000, and revises paragraph (a)(2) and adds text to paragraph (b), with the correct expiration date for the time-limited pear tolerance of 3/31/01, and the correct level and status of tolerance for rice grain and rice straw.

With the technical corrections contained in this document, the CFR will accurately present the requirements for diflubenzuron tolerance residues.

B. Why is this Technical Correction Issued as a Final Rule?

Section 553 of the Administrative Procedure Act (APA), 5 U.S.C. 553(b)(B), provides that, when an agency for good cause finds that notice and public procedure are impracticable, unnecessary or contrary to the public interest, the agency may issue a rule without providing notice and an opportunity for public comment. EPA has determined that there is good cause for making this rule final without prior proposal and opportunity for comment, because EPA is correcting the expiration date for the tolerance of diflubenzuron on pears to March 31, 2001, which was incorrectly given as March 31, 2000. This rule is also correcting the tolerance status and residue levels of diflubenzuron on rice grain and rice straw. EPA finds that this constitutes good cause under 5 U.S.C. 553(b)(B).

III. Regulatory Assessment Requirements

This final rule implements a technical correction to the CFR, and it does not otherwise impose or amend any requirements. As such, the Office of Management and Budget (OMB) has determined that a technical correction is not a “significant regulatory action” subject to review by OMB under Executive Order 12866, entitled Regulatory Planning and Review (58 FR 51735, October 4, 1993). Nor does this final rule contain any information collection requirements that require review and approval by OMB pursuant to the Paperwork Reduction Act of 1995 (PRA) (44 U.S.C. 3501 et seq.).

Because this action is not economically significant as defined by section 3(f) of Executive Order 12866, this action is not subject to Executive Order 13045, entitled Protection of Children from Environmental Health Risks and Safety Risks (62 FR 19885, April 23, 1997). This action will not result in environmental justice related issues and does not, therefore, require special consideration under Executive Order 12898, entitled Federal Actions to Address Environmental Justice in Minority Populations and Low-Income Populations (59 FR 7629, February 16, 1994).

Since the Agency has made a “good cause” finding that this action is not subject to notice-and-comment requirements under the APA or any other statute (see Unit II.B.), this action is not subject to provisions of the Regulatory Flexibility Act (RFA) (5 U.S.C. 601 et seq.), or to sections 202 and 205 of the Unfunded Mandates Reform Act of 1995 (UMRA) (Public Law 104-4). In addition, this action does not significantly or uniquely affect small governments or impose a significant intergovernmental mandate, as described in sections 203 and 204 of UMRA.

This final rule will not have substantial direct effects on the States or on one or more Indian tribes, on the relationship between the national government and the States or one or more Indian tribes, or on the distribution of power and responsibilities among the various levels of government or between the Federal government and Indian tribes. As such, this action have any “tribal implications” as described in Executive Order 13175, entitled Consultation and Coordination with Indian Tribal Governments (65 FR 67249, November 6, 2000), or any “federalism implications” as described in Executive Order 13132, entitled Federalism (64 FR 43255, August 10, 1999).

This action does not involve any technical standards that require the Agency's consideration of voluntary consensus standards pursuant to section 12(d) of the National Technology Transfer and Advancement Act of 1995 (NTTAA), Public Law 104-113, section 12(d) (15 U.S.C. 272 note).

In issuing this final rule, EPA has taken the necessary steps to eliminate drafting errors and ambiguity, minimize potential litigation, and provide a clear legal standard for affected conduct, as required by section 3 of Executive Order 12988, entitled Civil Justice Reform (61 FR 4729, February 7, 1996).

EPA has complied with Executive Order 12630, entitled Governmental Actions and Interference with Constitutionally Protected Property Rights (53 FR 8859, March 15, 1988), by examining the takings implications of this rule in accordance with the “Attorney General's Supplemental Guidelines for the Evaluation of Risk and Avoidance of Unanticipated Takings” issued under the Executive Order.

For information about the applicability of the regulatory assessment requirements to the final rule that was issued on September 29, 1999 (64 FR 52450), please refer to the discussion in Unit VIII. of that document.

IV. Submission to Congress and the Comptroller General

The Congressional Review Act, 5 U.S.C. 801 et seq., as added by the Small Business Regulatory Enforcement Fairness Act of 1996, generally provides that before a rule may take effect, the Agency promulgating the rule must submit a rule report, which includes a copy of the rule, to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 180

Environmental protection, Administrative practice and procedure, Agricultural commodities, Pesticides and pests, Reporting and recordkeeping requirements.

Dated: March 12, 2001.
James Jones.
Director, Registration Division, Office of Pesticide Programs.

Therefore, 40 CFR chapter I is amended as follows:

PART 180—[AMENDED]

1. The authority citation for part 180 continues to read as follows:

Authority: 21 U.S.C. 321(q), 346(a) and 371.

2. By withdrawing the final rule correction to § 180.377(b) as published in the Federal Register of September 27, 2000 (65 FR 57956) (FRL-6741-3).

3. In § 180.377, by revising paragraph (a)(2) and by adding text to paragraph (b) to read as follows:

§ 180.377 Diflubenzuron; tolerances for residues.

(a)***

(2) Tolerances are established for residues of the insecticide diflubenzuron (N-[[4-chlorophenyl)amino]-carbonyl]-2,6-difluorobenzamide) and its metabolites 4-chlorophenlyurea and 4-chloroaniline on rice grain at 0.02 ppm and rice straw at 0.8 ppm.

(b) Section 18 emergency exemptions. Time-limited tolerances are established for residues of diflubenzuron and its metabolites, PCA (4-chloroaniline) and CPU (4-chlorophenylurea), expressed as the parent diflubenzuron, in connection with use of this pesticide under a section 18 emergency exemption granted by EPA. The tolerances will expire on the dates specified in the following table:

Commodity | Parts per million | Expiration/revocation date
Pears | 0.5 | 3/31/01

* * * * *

[FR Doc. 01-7289 Filed 3-22-01; 8:45 am]

BILLING CODE 6560-50-S